DEPARTMENT OF TRANSPORTATION

Federal Motor Carrier Safety Administration

[Docket No. FMCSA-2014-0335]

Parts and Accessories Necessary for Safe Operation; Dealers Choice Truckaway System, Inc. Exemption Application

AGENCY: Federal Motor Carrier Safety Administration (FMCSA), DOT.

ACTION: Notice of final disposition.

SUMMARY: The Federal Motor Carrier Safety Administration (FMCSA) announces its decision to grant Dealers Choice Truckaway System, Inc.'s (Truckmovers) exemption application to allow the use of ultra-high-molecular-weight polyethylene blocks to build up the height of the front end of towed vehicles in driveaway-towaway operations. The Federal Motor Carrier Safety Regulations (FMCSRs) permit the use of “hardwood blocks of good quality” for this purpose, but the use of materials other than hardwood blocks is not addressed. FMCSA believes the use of ultra-high-molecular-weight polyethylene plastic blocks will maintain a level of safety that is equivalent to the level of safety achieved without the exemption. While the Truckmovers exemption application requested relief for an estimated 250 drivers and CMVs, the Agency has decided that it is appropriate to extend the scope of the exemption to allow any motor carrier to use ultra-high-molecular-weight polyethylene support blocks in lieu of hardwood blocks.

DATES: This exemption is effective February 11, 2015 and ending February 13, 2017.

FOR FURTHER INFORMATION CONTACT: Mr. Mike Huntley, Vehicle and Roadside Operations Division, Office of Carrier, Driver, and Vehicle Safety, MC-PSV, (202) 366-5370, Federal Motor Carrier Safety Administration, 1200 New Jersey Avenue SE., Washington, DC 20590-0001.

Docket: For access to the docket to read background documents or comments submitted to notice requesting public comments on the exemption application, go to www.regulations.gov at any time or visit Room W12-140 on the ground level of the West Building, 1200 New Jersey Avenue SE., Washington, DC, between 9 a.m. and 5 p.m., ET, Monday through Friday, except Federal holidays. The on-line Federal document management system is available 24 hours each day, 365 days each year. The docket number is listed at the beginning of this notice.

SUPPLEMENTARY INFORMATION:

Background

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Truckmovers Application for Exemption

Truckmovers applied for an exemption from 49 CFR 393.71(k)(4) to allow the use of ultra-high-molecular-weight polyethylene support blocks in lieu of hardwood blocks to increase the height of a towed vehicle in driveaway-towaway operations. A copy of the application is included in the docket referenced at the beginning of this notice.

In its application, Truckmovers states that without the proposed exemption it will not be able to utilize ultra-high-molecular-weight polyethylene support blocks because 49 CFR 393.71(k)(4) specifically requires the use of hardwood blocks to build up the height of the front end of a towed vehicle in driveaway-towaway operations. Truckmovers provided information regarding the development of ultra-high-molecular-weight polyethylene blocks with a compression rating of 3,300 psi, which can withstand extreme heat and cold. These blocks are not susceptible to decomposition and erosion like wood blocks, allowing for their re-use. The high compression strength of the ultra-high-molecular-weight polyethylene makes the blocks resistant to deformation under loading when secured with cargo securement devices, while wood can be compressed as a result of over-tightening of the cargo securement devices, and can crack and become loose in transit. For the reasons stated above, Truckmovers requests that its operators be permitted to use the ultra-high molecular polyethylene support blocks to increase the height of a towed vehicle in driveaway-towaway operations, instead of utilizing hardwood blocks as specified in the current regulation. Truckmovers believes that the use of ultra-high-molecular-weight polyethylene plastic blocks, in lieu of hardwood support blocks, will maintain a level of safety that is equivalent to the level of safety achieved without the exemption.

Comments

FMCSA published a notice of the application in the Federal Register on October 8, 2014, and asked for public comment (79 FR 60891). No comments were received.

FMCSA Decision

The FMCSA has evaluated the Truckmovers exemption application. The Agency believes that granting the temporary exemption to allow the use of ultra-high-molecular-weight polyethylene support blocks in lieu of hardwood blocks to increase the height of a towed vehicle in driveaway-towaway operations will provide a level of safety that is equivalent to, or greater than the level of safety achieved without the exemption. FMCSA agrees that ultra-high-molecular-weight polyethylene blocks will be less susceptible to material degradation than hardwood blocks, and that the use of these plastic blocks will help ensure that the towed vehicle will remain secure within the saddle mounts and will prevent shifting while in transit. While the Truckmovers exemption application requested relief for an estimated 250 drivers and CMVs, the Agency has decided that it is appropriate to extend the scope of the exemption to allow any motor carrier to use ultra-high-molecular-weight polyethylene support blocks in lieu of hardwood blocks to increase the height of a towed vehicle in driveaway-towaway operations.

Terms and Conditions for the Exemption

The Agency hereby grants the exemption for a two-year period, beginning February 11, 2015 and ending February 13, 2017. Any motor carrier that experiences a failure of the ultra-high-molecular-weight polyethylene support blocks must report the incident to FMCSA's Vehicle and Roadside Operations Division, 1200 New Jersey Avenue, Washington, DC 20590. The report must include information about the size of the support block and the weight upon the support block at the time the block was damaged. This information will enable FMCSA to gather information about the real-world experiences of carriers in using ultra-high-molecular-weight polyethylene support blocks.

The exemption will be valid for two years unless rescinded earlier by FMCSA. The exemption will be rescinded if: (1) Motor carriers and/or commercial motor vehicles fail to comply with the terms and conditions of the exemption; (2) the exemption has resulted in a lower level of safety than was maintained before it was granted; or (3) continuation of the exemption would not be consistent with the goals and objectives of 49 U.S.C. 31136(e) and 31315(b).

Interested parties possessing information that would demonstrate that motor carriers using the plastic support blocks are not achieving the requisite statutory level of safety should immediately notify FMCSA. The Agency will evaluate any such information and, if safety is being compromised or if the continuation of the exemption is not consistent with 49 U.S.C. 31136(e) and 31315(b), will take immediate steps to revoke the exemption.

Preemption

During the period the exemption is in effect, no State shall enforce any law or regulation that conflicts with or is inconsistent with this exemption with respect to a person operating under the exemption.

Issued on: January 30, 2015.
T.F. Scott Darling, III,
Acting Administrator.

[FR Doc. 2015-02811 Filed 2-10-15; 8:45 am]

BILLING CODE 4910-EX-P